Title 3—

The President

Proclamation 9073 of December 31, 2013

National Mentoring Month, 2014

By the President of the United States of America

A Proclamation

In every corner of our Nation, mentors push our next generation to shape their ambitions, set a positive course, and achieve their boundless potential. During National Mentoring Month, we celebrate everyone who teaches, inspires, and guides young Americans as they reach for their dreams.

Mentors help children build confidence, gain knowledge, and develop the strength of character to succeed inside and outside of the classroom. They are relatives, teachers, coaches, ministers, and neighbors. Anyone can be a mentor, and every child should have the chance to be a mentee. Young people with mentors have better attendance in school, higher self-esteem, a greater chance of pursuing higher education, and a reduced risk of substance abuse. That is why my Administration is creating new opportunities to give back—from expanding national service, promoting responsible fatherhood, and challenging businesses to grow their mentoring activities, to First Lady Michelle Obama's mentoring initiative, which pairs local high school girls with powerful role models. For more information on how to get involved in a mentoring program, visit www.Serve.gov/Mentor.

America is at its best when we lift each other up, when we pursue our individual goals while never forgetting that we are bound as one Nation and as one people. If we carry this spirit forward, if we take responsibility for our future leaders and give them the tools to succeed, America's best days will always lie ahead.

NOW, THEREFORE, I, BARACK OBAMA, President of the United States of America, by virtue of the authority vested in me by the Constitution and the laws of the United States, do hereby proclaim January 2014 as National Mentoring Month. I call upon public officials, business and community leaders, educators, and Americans across the country to observe this month with appropriate ceremonies, activities, and programs.

IN WITNESS WHEREOF, I have hereunto set my hand this thirty-first day of December, in the year of our Lord two thousand thirteen, and of the Independence of the United States of America the two hundred and thirty-eighth.

[FR Doc. 2014-00085

Filed 1-6-14; 8:45 am]

Billing code 3295-F4